DEPARTMENT OF DEFENSE

Office of the Secretary

Defense Innovation Board, Notice of Federal Advisory Committee Meeting

AGENCY: Office of the Under Secretary of Defense for Research and Engineering, Department of Defense (DoD).

ACTION: Notice of Federal Advisory Committee meeting.

SUMMARY: The DoD is publishing this notice to announce that the following Federal Advisory Committee meeting of the Defense Innovation Board (DIB) will take place.

DATES: Closed to the public, Monday, October 17, 2022 from 12 p.m. to 3:45 p.m. Open to the public virtually, Monday, October 17, 2022 from 4 p.m. to 5 p.m.

ADDRESSES: The address of the meeting is Room 3E188 in the Pentagon, Washington, DC 20301.

FOR FURTHER INFORMATION CONTACT: Ms. Colleen Laughlin, (703) 697-7020 (voice), colleen.r.laughlin.civ@mail.mil or osd.innovation@mail.mil (email). Mailing address is Defense Innovation Board, 4800 Mark Center Drive, Suite 16F09-02, Alexandria, VA 22350-3600. The most current meeting agenda can be found on the DIB website at: https://innovation.defense.gov.

SUPPLEMENTARY INFORMATION: This meeting is being held under the provisions of the Federal Advisory Committee Act (FACA) (5 U.S.C.), the Government in the Sunshine Act (5 U.S.C. 552b), and 41 CFR 102-3.140 and 102-3.150.

Due to circumstances beyond the control of the Designated Federal Officer, the Defense Innovation Board was unable to provide public notification required by 41 CFR 102-3.150(a) concerning its October 17, 2022 meeting. Accordingly, the Advisory Committee Management Officer for the Department of Defense, pursuant to 41 CFR 102-3.150(b), waives the 15-calendar day notification requirement.

Purpose of the Meeting: The mission of the DIB is to provide the Secretary of Defense and the Deputy Secretary of Defense independent advice and strategic insights on the emerging technologies landscape, adoption of commercial sector innovation best practices, and the impact of disruptive and emerging technologies and their relevance to DoD. The DIB focuses on (a) technology and capabilities, (b) practices and operations, (c) people and culture, and (d) other research and analysis of topics raised by the Secretary of Defense, the Deputy Secretary of Defense, or the Under Secretary of Defense for Research and Engineering towards achieving National Defense goals. The objective of the meeting is to obtain, review, and evaluate information related to the DIB's mission.

Agenda: The DIB's meeting will begin in closed session on October 17, 2022 at 12 p.m. eastern time with opening remarks by Ms. Colleen Laughlin, the Executive Director and Designated Federal Officer (DFO) and Mr. Michael Bloomberg, the DIB Chair. The DIB will participate in classified discussions on matters related to national defense. These discussions will focus on senior DoD leader's defense innovation priorities and challenges and the broader innovation and national security landscape. The DFO will then adjourn the closed board meeting at 3:45 p.m.

The DFO will reconvene the DIB in an open meeting from 4 p.m. to 5 p.m., with opening remarks by the DFO and the DIB Chair. The DIB will then do member introductions, followed by a discussion of DIB tasks and mandate. The DFO will review comments submitted by the public; those will be provided to the DIB Chair and Members in advance and will be posted to the DIB website as part of the public record. The meeting will conclude with closing remarks by the DIB Chair and adjournment of the open meeting by the Designated Federal Officer at 5 p.m. The latest version of the agenda will be available on the Board's website at: https://innovation.defense.gov.

Meeting Accessibility: In accordance with Section 10(d) of the FACA and 41 CFR 102-3.155, it is hereby determined that portions of the October 17, 2022 meeting of the DIB will include classified information and other matters covered by 5 U.S.C. 552b(c)(1) and that, accordingly, the meeting will be closed to the public on October 17, 2022 from 12 p.m. to 3:45 p.m. This determination was made in writing by the Under Secretary of Defense for Research and Engineering, in consultation with the DoD Office of General Counsel, based on the consideration that it is expected that discussions throughout this period will involve classified matters of national security. Such classified material is so intertwined with the unclassified material that it cannot reasonably be segregated into separate discussions without defeating the effectiveness and meaning of these portions of the meeting. To permit these portions of the meeting to be open to the public would preclude discussion of such matters and would greatly diminish the ultimate utility of the DIB's findings and recommendations to the Secretary of Defense, the Deputy Secretary of Defense, and the Under Secretary of Defense for Research and Engineering.

Pursuant to section 10(a)(1) of the FACA and 41 CFR 102-3.140, the portion of the meeting on October 17, 2022 from 4 p.m. to 5 p.m. is open to the public virtually. Members of the public wishing to receive a link to the livestream webcast should register on the DIB website listed in this notice no later than October 14, 2022. Members of the media should RSVP to the Office of the Assistant to the Secretary of Defense (Public Affairs), at osd.pentagon.pa.list.dop-atl@mail.mil. Requests to attend the virtual public session must be received no later than 12 p.m. on Friday, October 14, 2022.

Special Accommodations: Individuals requiring special accommodations to access the public meeting should contact the DFO (see the FOR FURTHER INFORMATION CONTACT section for contact information) no later than Friday, October 14, 2022 so that appropriate arrangements can be made.

Written Comments and Statements: Pursuant to 41 CFR 102-3.105(j) and 102-3.140 and section 10(a)(3) of the FACA, the public or interested organizations may submit written comments or statements to the DIB in response to the stated agenda of the meeting or in regard to the DIB's mission in general. Written comments may be submitted to the DFO via electronic mail (the preferred mode of submission) to the address osd.innovation@mail.mil in either Adobe Acrobat Portable Document Format (PDF) or Microsoft Word format. Each page of the comment or statement must include the author's name, title or affiliation, address, and daytime phone number. The DFO will compile all written submissions and provide them to DIB members for consideration. Written comments or statements received after 12 p.m. October 14, 2022 may not be provided to the DIB until its next scheduled meeting. Please note that because the DIB operates under the provisions of the FACA, all submitted comments and statements will be treated as public documents and will be made available for public inspection, including but not limited to being posted on the DIB's website.

Oral Presentations: Individuals wishing to make an oral statement to the DIB at the virtual public meeting may be permitted to speak for up to two minutes. Anyone wishing to speak to the DIB should submit a request by email at osd.innovation@mail.mil no later than October 14, 2022 for planning purposes. Requests for making oral comments should include a copy or summary of planned remarks for archival purposes and must include the author's name, title or affiliation, address, and daytime phone number. Individuals may also be permitted to submit a comment request at the public meeting; however, depending on the number of individuals making prior requests to speak, the schedule may limit participation. Webcast attendees will be provided instructions with the livestream link if they wish to submit comments during the open meeting.

Dated: October 11, 2022.
Aaron T. Siegel,
Alternate Federal Register Liaison Officer, Department of Defense.

[FR Doc. 2022-22377 Filed 10-13-22; 8:45 am]

BILLING CODE 5001-06-P